DEPARTMENT OF ENERGY

Federal Energy Regulatory Commission

Combined Notice of Filings #2

Take notice that the Commission received the following electric rate filings:

Docket Numbers: ER19-26-000.

Applicants: California Independent System Operator Corporation.

Description: § 205(d) Rate Filing: 2018-10-01 Congestion Revenue Rights Auction Efficiency Track 1B Modification to be effective 1/1/2019.

Filed Date: 10/2/18.

Accession Number: 20181002-5001.

Comments Due: 5 p.m. ET 10/12/18.

Docket Numbers: ER19-28-000.

Applicants: Flanders Energy LLC.

Description: Baseline eTariff Filing: Market-Based Rate Tariff Application to be effective 10/3/2018.

Filed Date: 10/2/18.

Accession Number: 20181002-5059.

Comments Due: 5 p.m. ET 10/23/18.

Docket Numbers: ER19-29-000.

Applicants: NorthWestern Corporation.

Description: Baseline eTariff Filing: New Baseline—Montana OATT to be effective 10/8/2018.

Filed Date: 10/2/18.

Accession Number: 20181002-5072.

Comments Due: 5 p.m. ET 10/23/18.

Docket Numbers: ER19-30-000.

Applicants: R-WS Antelope Valley Gen-Tie, LLC.

Description: Baseline eTariff Filing: Certificates of Concurrence for Shared Facilities Agreements to be effective 10/14/2018.

Filed Date: 10/2/18.

Accession Number: 20181002-5073.

Comments Due: 5 p.m. ET 10/23/18.

Docket Numbers: ER19-31-000.

Applicants: Oregon Clean Energy, LLC.

Description: Baseline eTariff Filing: Reactive Power Tariff Application to be effective 12/1/2018.

Filed Date: 10/2/18.

Accession Number: 20181002-5112.

Comments Due: 5 p.m. ET 10/23/18.

Docket Numbers: ER19-32-000.

Applicants: Benson Power, LLC.

Description: Tariff Cancellation: Notice of Cancellation of Market-Based Rate Tariff to be effective 10/3/2018.

Filed Date: 10/2/18.

Accession Number: 20181002-5133.

Comments Due: 5 p.m. ET 10/23/18.

Docket Numbers: ER19-33-000.

Applicants: NorthWestern Corporation.

Description: Baseline eTariff Filing: New Baseline—Other Rate Schedules (South Dakota) to be effective 10/8/2018.

Filed Date: 10/2/18.

Accession Number: 20181002-5134.

Comments Due: 5 p.m. ET 10/23/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2018.
Nathaniel J. Davis, Sr.,
Deputy Secretary.

[FR Doc. 2018-21932 Filed 10-9-18; 8:45 am]

BILLING CODE 6717-01-P